DEPARTMENT OF LABOR

Employment and Training Administration

Comment Request for Information Collections in the H-2B Temporary Non-Agricultural Employment-Based Visa Program (OMB Control Number 1205-0509), Extension

AGENCY: Employment and Training Administration (ETA), Labor.

ACTION: Notice.

SUMMARY: The Department of Labor (DOL), as part of its continuing effort to reduce paperwork and respondent burden, conducts a preclearance consultation program to provide the public and Federal agencies with an opportunity to comment on proposed and/or continuing collections of information in accordance with the Paperwork Reduction Act of 1995 (44 U.S.C. 3506(c)(2)(A)). This program helps ensure that requested data can be provided in the desired format, reporting burden (time and financial resources) is minimized, collection instruments are clearly understood, and the impact of collection requirements on respondents can be properly assessed.

Currently, the Employment and Training Administration (ETA) is soliciting comments concerning the information collections in the H-2B temporary non-agricultural employment-based visa program, which includes Form ETA-9142B, H-2B Application for Temporary Employment Certification; Appendix B; Form ETA-9155 H-2B Registration; and the Seafood Industry Attestation. These forms all expire on October 31, 2015. A copy of the proposed information collection request can be obtained free of charge by contacting the office listed below in the addressee section of this notice.

DATES: Written comments must be submitted to the office listed in the addresses section below on or before September 8, 2015.

ADDRESSES: Submit written comments to Brian Pasternak, National Director of Temporary Programs, Office of Foreign Labor Certification, Room C-4312, Employment & Training Administration, U.S. Department of Labor, 200 Constitution Avenue NW., Washington, DC 20210. Telephone number: 202-693-3010 (this is not a toll-free number). Individuals with hearing or speech impairments may access the telephone number above via TTY by calling the toll-free Federal Information Relay Service at 1-877-889-5627 (TTY/TDD). Fax: 202-693-2768. Email: ETA.OFLC.Forms@dol.gov subject line: ETA-9142B. A copy of the proposed information collection request (ICR) can be obtained free of charge by contacting the office listed above.

SUPPLEMENTARY INFORMATION:

I. Background

The information collection is required by sections 101(a)(15)(H)(ii)(b) and 214(c) of the Immigration and Nationality Act (INA) (8 U.S.C. 1011(a)(15)(H)(ii)(b) and 1184(c)) and 8 CFR 214.2(h)(6). Before an employer may petition for any temporary skilled or unskilled foreign workers, it must submit a request for certification to the Secretary of Labor containing the elements prescribed by the INA and the Department of Labor's (Department) implementing regulations, which differ depending on the visa program under which the foreign workers are sought.

The H-2B visa program enables employers to bring nonimmigrant foreign workers to the U.S. to perform nonagricultural work of a temporary or seasonal nature as defined in 8 U.S.C. 1101(a)(15)(H)(ii)(b). For purposes of the H-2B program, the INA and governing federal regulations require the Secretary of Labor to certify, among other things, that any foreign worker seeking to enter the United States on a temporary basis for the purpose of performing non-agricultural services or labor will not, by doing so, adversely affect wages and working conditions of U.S. workers who are similarly employed. In addition, the Secretary must certify that qualified U.S. workers are not available to perform such temporary labor or services. (8 CFR 214.2(h)(6)(i)(A), (iii)(A).)

The Form ETA-9142B H-2B Application for Temporary Employment Certification is used to collect information to permit the Department to meet its statutory responsibilities for administering the H-2B nonimmigrant temporary non-agricultural employment-based visa program. Appendix B of the Form ETA-9142B is used by employers to attest that they will comply with all of the terms, conditions, and obligations of the H-2B program.

The Form ETA-9155 H-2B Registration is a new form required by the regulations that went into effect April 29, 2015. Once its use is fully implemented, it will allow the Department to make a preliminary determination with respect to an employer's temporary need, and issue to the employer an H-2B Registration to be used in connection with subsequent labor certification applications for a period of up to three consecutive years. Once the ETA-9155 registration form is implemented, an H-2B employer will have to register with the Department prior to submitting its request for labor certification.

The Seafood Industry Attestation is an attestation used specifically by employers in the seafood industry who would like to avail themselves of the staggered entry provision for H-2B workers recently enacted by Congress in the Consolidated and Further Continuing Appropriations Act of 2015, Public Law 113-235.

II. Review Focus

DOL is particularly interested in comments that:

• Evaluate whether the proposed collection of information is necessary for the proper performance of the functions of the agency, including whether the information will have practical utility;

• evaluate the accuracy of the agency's estimate of the burden of the proposed collection of information, including the validity of the methodology and assumptions used;

• enhance the quality, utility, and clarity of the information to be collected; and

• minimize the burden of the collection of information on those who are to respond, including through the use of appropriate automated, electronic, mechanical, or other technological collection techniques or other forms of information technology, e.g., permitting electronic submissions of responses.

III. Current Actions

Type of Review: Extension.

Title: H-2B Temporary Nonagriculrural Employment Certification Program.

OMB Number: 1205-0509.

Affected Public: Individuals or Households, Private Sector—businesses or other for profits, Government, State, Local and Tribal Governments.

Form(s): ETA-9142B, H-2B Application for Temporary Employment Certification; Appendix B; ETA-9155, H-2B Registration; and Seafood Industry Attestation.

Total Annual Respondents: 7,355.

Annual Frequency: On Occasion.

Total Annual Responses: 184,442.

Average Time per Response: 15 minutes.

Estimated Total Annual Burden Hours: 47,992.

Total Annual Burden Cost for Respondents: $3,668,029.

Comments submitted in response to this comment request will be summarized and/or included in the request for OMB approval of the ICR; they will also become a matter of public record. Commenters are encouraged not to submit sensitive information (e.g., confidential business information or personally identifiable information such as a social security number).

Portia Wu,
Assistant Secretary for Employment and Training, Labor.

[FR Doc. 2015-16874 Filed 7-9-15; 8:45 am]

BILLING CODE 4510-FP-P